DEPARTMENT OF COMMERCE

International Trade Administration

[A-475-818]

Certain Pasta From Italy: Notice of Partial Rescission of Antidumping Duty Administrative Review

AGENCY: Enforcement and Compliance, International Trade Administration, Department of Commerce.

SUMMARY: The Department of Commerce (Commerce) is rescinding, in part, the antidumping duty administrative review of the antidumping duty order on certain pasta from Italy for the period July 1, 2019, through June 30, 2020.

DATES: Applicable February 1, 2021.

FOR FURTHER INFORMATION CONTACT: Jonathan Hall-Eastman or John Hoffner, AD/CVD Operations, Office III, Enforcement and Compliance, International Trade Administration, U.S. Department of Commerce, 1401 Constitution Avenue NW, Washington, DC 20230; telephone: (202) 482-1468 or (202) 482-3315, respectively.

SUPPLEMENTARY INFORMATION:

Background

On July 1, 2020, Commerce published a notice of opportunity to request an administrative review of the antidumping duty order on certain pasta from Italy.¹ Pursuant to requests from interested parties, and in accordance with section 751(a) of the Tariff Act of 1930, amended (the Act), Commerce published in the Federal Register the notice of initiation of an antidumping duty administrative review with respect to the following companies covering the period July 1, 2019, through June 30, 2020: Agritalia S.r.l. (Agritalia); Armonie D'Italia srl (Armonie D'Italia); F. Divella S.p.A. (F. Divella); La Molisana S.p.A. (La Molisana); Liguori Pastificio dal 1820 S.p.A. (Pasta Liguori); Pasta Castiglioni; Pasta Zara S.p.A. (Pasta Zara); Pastificio C.A.M.S. Srl (Pastificio C.A.M.S.); Pastificio Della Forma S.r.l (Pastificio Della Forma); Pastificio Fratelli De Luca S.r.l. (Fratelli De Luca); and Rummo S.p.A. (Rummo).²

¹ See Antidumping or Countervailing Duty Order, Finding, or Suspended Investigation; Opportunity To Request Administrative Review, 85 FR 39531 (July 1, 2020).

² See Initiation of Antidumping and Countervailing Duty Administrative Reviews, 85 FR 54983 (September 3, 2020) (Initiation Notice).

On December 2, 2020, Rummo timely withdrew its request to review Rummo and its subsidiary Pasta Castiglioni.³ No other party requested an administrative review of these parties.

³ See Rummo's Letter, “Antidumping Duty Review of Certain Pasta from Italy: The Rummo Group Withdrawal of Request for Review,” dated December 2, 2020.

Partial Rescission of the 2019-2020 Administrative Review

Pursuant to 19 CFR 351.213(d)(1), Commerce will rescind an administrative review, in whole or in part, if the parties that requested a review withdraw the request within 90 days of the date of publication of the notice of initiation of the requested review. The aforementioned withdrawal request was timely submitted and no other interested party requested an administrative review of Rummo and Pasta Castiglioni. Therefore, in accordance with 19 CFR 351.213(d)(1), and consistent with our practice,⁴ we are rescinding this review of the antidumping duty order on certain pasta from Italy, in part, with respect to Rummo and Pasta Castiglioni.

⁴ See, e.g., Certain Lined Paper Products from India: Notice of Partial Rescission of Antidumping Duty Administrative Review and Extension of Time Limit for the Preliminary Results of Antidumping Duty Administrative Review, 74 FR 21781 (May 11, 2009); see also Carbon Steel Butt-Weld Pipe Fittings from Thailand: Rescission of Antidumping Duty Administrative Review, 74 FR 7218 (February 13, 2009).

The review will continue with respect to the following companies: Agritalia, Armonie D'Italia, F. Divella, Ghigi/Zara,⁵ La Molisana, Pasta Liguori, Pastificio C.A.M.S., Pastificio Della Forma, and Fratelli De Luca.

⁵ Though Commerce initiated a review of Pasta Zara, because we have collapsed Ghigi 1870 S.p.A. (Ghigi) and Pasta Zara (collectively Ghigi/Zara) since the 2015-2016 administrative review, both Ghigi and Pasta Zara continue to be subject to the review. See Certain Pasta from Italy: Final Results of Antidumping Duty Administrative Review; 2017-2018, 85 FR 2714 (January 16, 2020); see also Certain Pasta from Italy: Final Results of Antidumping Duty Administrative Review; 2016-2017, 83 FR 63627 (December 11, 2018); and Certain Pasta from Italy: Final Results of Antidumping Duty Administrative Review; 2015-2016, 82 FR 57428 (December 5, 2017).

Assessment

Commerce will instruct U.S. Customs and Border Protection (CBP) to assess antidumping duties on all appropriate entries. For the companies for which this review is rescinded, Rummo and Pasta Castiglioni, antidumping duties shall be assessed at rates equal to the cash deposit of estimated antidumping duties required at the time of entry, or withdrawal from warehouse, for consumption, during the period July 1, 2019, through June 30, 2020, in accordance with 19 CFR 351.212(c)(1)(i).

Commerce intends to issue assessment instructions to CBP no earlier than 35 days after the date of publication of this rescission notice in the Federal Register.

Notification to Importers

This notice serves as a reminder to importers of their responsibility under 19 CFR 351.402(f)(2) to file a certificate regarding the reimbursement of antidumping and/or countervailing duties prior to liquidation of the relevant entries during this review period. Failure to comply with this requirement could result in Commerce's presumption that reimbursement of antidumping and/or countervailing duties occurred and the subsequent assessment of doubled antidumping duties.

Notification Regarding Administrative Protective Order

This notice serves as a final reminder to parties subject to administrative protective order (APO) of their responsibility concerning the disposition of proprietary information disclosed under an APO in accordance with 19 CFR 351.305(a)(3), which continues to govern business proprietary information in this segment of the proceeding. Timely written notification of the return/destruction of APO materials or conversion to judicial protective order is hereby requested. Failure to comply with the regulations and terms of an APO is a violation which is subject to sanction.

Notification to Interested Parties

This notice is issued and published in accordance with sections 751(a)(1) and 777(i)(1) of the Act, and 19 CFR 351.213(d)(4).

Dated: January 26, 2021.
James Maeder,
Deputy Assistant Secretary for Antidumping and Countervailing Duty Operations.

[FR Doc. 2021-02039 Filed 1-29-21; 8:45 am]

BILLING CODE 3510-DS-P